LEGAL SERVICES CORPORATION

Sunshine Act Meeting of the Board of Directors Operations & Regulations Committee

Time and Date: The Operations and Regulations Committee of the Legal Services Corporation Board of Directors will meet on September 7, 2001. The meeting will begin at 2 p.m. and continue until the Committee concludes its agenda.

Location: Hilton Alexandria Mark Center, 5000 Seminary Road, Alexandria, Virginia.

Status of Meeting: Open.

Matters to be Considered:

1. Approval of agenda.

2. Approval of the minutes of the Committee's meeting of June 29, 2001.

3. Consider and act on the Draft Final Property Acquisition and Management Manual.

4. Consider and act upon the Final Report of the Regulations Review Task Force.

5. Staff report on the status of Current Rulemakings: 45 CFR part 1626 (Restrictions on Legal Assistance to Aliens); 45 CFR part 1611 (Eligibility); and 45 CFR 1639 (Welfare Reform).

6. Consider and act on other business.

7. Public comment.

CONTACT PERSON FOR INFORMATION: Victor M. Fortuno, Vice President for Legal Affairs, General Counsel & Corporate Secretary, at (202) 336-8800.

Special Needs: Upon request, meeting notices will be made available in alternate formats to accommodate visual and hearing impairments. Individuals who have a disability and need an accommodation to attend the meeting may notify Elizabeth S. Cushing, at (202) 336-8800.

Dated: August 30, 2001.
Victor M. Fortuno,
Vice President for Legal Affairs, General Counsel and Corporate Secretary.

[FR Doc. 01-22437 Filed 8-31-01; 4:08 pm]

BILLING CODE 7050-01-M